DEPARTMENT OF TRANSPORTATION

Federal Aviation Administration

14 CFR Part 39

[Docket No. 2002-NM-102-AD; Amendment 39-13040; AD 2003-03-16]

RIN 2120-AA64

Airworthiness Directives; Airbus Model A330-223, -321, -322, and -323 Series Airplanes Equipped With Pratt & Whitney Model PW4164, PW4168, or PW4168A Engines

AGENCY: Federal Aviation Administration, DOT.

ACTION: Final rule; request for comments.

SUMMARY: This amendment adopts a new airworthiness directive (AD) that is applicable to certain Airbus Model A330-223, -321, -322, and -323 series airplanes equipped with Pratt & Whitney Model PW4164, PW4168, or PW4168A engines. This action requires modification of the primary structure of the engine pylons, and replacement of the thrust reverser locking actuators with new, improved locking actuators. This action is necessary to prevent reduced structural integrity of the primary structure of the engine pylons, and uncommanded deployment of the thrust reversers, which could result in reduced controllability of the airplane. This action is intended to address the identified unsafe condition.

DATES: Effective February 20, 2003.

The incorporation by reference of certain publications listed in the regulations is approved by the Director of the Federal Register as of February 20, 2003.

Comments for inclusion in the Rules Docket must be received on or before March 7, 2003.

ADDRESSES: Submit comments in triplicate to the Federal Aviation Administration (FAA), Transport Airplane Directorate, ANM-114, Attention: Rules Docket No. 2002-NM-102-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2002-NM-102-AD” in the subject line and need not be submitted in triplicate. Comments sent via the Internet as attached electronic files must be formatted in Microsoft Word 97 for Windows or ASCII text.

The service information referenced in this AD may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The Direction Générale de l'Aviation Civile (DGAC), which is the airworthiness authority for France, notified the FAA that an unsafe condition may exist on certain Airbus Model A330-223, -321, -322, and -323 series airplanes equipped with Pratt & Whitney Model PW4164, PW4168, or PW4168A engines. The DGAC advises that engine fan blade-out tests performed by the engine manufacturer, Pratt &Whitney, have shown that the loads used for certification of the engines were underestimated. In the event of an engine fan blade-out, the induced loads could lead to reduced structural integrity of the primary structure of the engine pylons, and uncommanded deployment of the thrust reversers. This condition, if not corrected, could result in reduced controllability of the airplane.

Explanation of Relevant Service Information

Airbus has issued Service Bulletin A330-54-3016, Revision 01, dated August 7, 2000, which describes procedures for the modification of the primary structure of the engine pylons. The modification includes, among other actions, replacing the stainless steel screws at rib 8B and rib 12 with Inconel screws, and replacing the stainless steel screws located on the lateral panel seam of the lower spar between rib 8C and rib 10 with stainless steel screws of the next-higher-nominal diameter.

Airbus has also issued Service Bulletin A330-78-3011, dated December 14, 1999, which describes procedures for the replacement of the thrust reverser locking actuators with new, improved locking actuators.

Accomplishment of the actions specified in these service bulletins is intended to adequately address the identified unsafe condition. The DGAC classified these service bulletins as mandatory and issued French airworthiness directive 2000-237-123(B) R1, dated December 12, 2001, in order to assure the continued airworthiness of these airplanes in France.

Airbus Service Bulletin A330-78-3011, dated December 14, 1999, references Pratt & Whitney Service Bulletin PW4G-100-78-71, dated September 24, 1999, as an additional source of service information for accomplishment of the replacement of the thrust reverser locking actuators.

FAA's Conclusions

This airplane model is manufactured in France and is type certificated for operation in the United States under the provisions of section 21.29 of the Federal Aviation Regulations (14 CFR 21.19) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of the Rule

Since an unsafe condition has been identified that is likely to exist or develop on other airplanes of the same type design that may be registered in the United States at some time in the future, this AD is being issued to prevent the reduced structural integrity of the primary structure of the engine pylons, and uncommanded deployment of the thrust reversers, which could result in reduced controllability of the airplane. This AD requires accomplishment of the actions specified in the service bulletins described previously, except as discussed below.

Differences Between this AD and the French Airworthiness Directive

This AD differs from the parallel French airworthiness directive in that it will not require repetitive visual inspections of the fan blades at intervals not to exceed 500 engine hours, or an ultrasonic inspection of the attachment area of the fan blade root before the accumulation of 5,000 parts cycles since new, or within 500 parts cycles after the effective date of the French airworthiness directive. These inspections are not associated with any known unsafe condition. The DGAC required these inspections to minimize the possibility of a fan blade-off event, pending the retrofit of the modifications in paragraph 3 of the French airworthiness directive. All Airbus Model A330-223, -321, -322, and -323 series airplanes of U.S. registry were delivered with the modifications installed.

The French airworthiness directive defers implementation of the mandatory actions (i.e., modification of the engine pylon and replacement of the thrust reverser locking actuators) for a period of time by requiring the inspections described in the preceding paragraph. The compliance time for accomplishment of the mandatory actions is before the accumulation of 8,000 flight cycles since new, or before August 1, 2004, whichever occurs first. The DGAC advises that if the inspections in the preceding paragraph are not mandated, the modifications must be accomplished in a timeframe comparable to that of the inspections. Therefore, this AD requires accomplishment of the mandatory actions within 500 engine hours or six months after the effective date of this AD, whichever occurs later.

Operators should note that, unlike the French airworthiness directive, this AD will not require the replacement of the pylon aft mount nuts and bolts since the manufacturer has confirmed to the FAA that all pylon aft mount nuts and bolts made of MP159 material have already been replaced. Additionally, the French airworthiness directive requires replacement of the pylon front mount bolts made of MP159 material. The FAA has determined through review of data provided by the engine manufacturer that repetitive inspection of front mount bolts made of MP159 material addresses the unsafe condition. As discussed below, the FAA previously issued two other ADs that require these actions.

These differences have been coordinated with and acknowledged by the DGAC.

Other Relevant Rulemaking

The FAA has previously issued two other ADs that concern the pylon aft and forward mount nuts and bolts on Airbus airplanes:

1. AD 2000-25-53, amendment 39-12051 (65 FR 82259, December 28, 2000), requires repetitive inspections for cracks or other damage of pylon aft mount nuts and bolts made of MP159 material.

2. AD 2000-16-02, amendment 39-11856 (65 FR 49730, August 15, 2000), requires repetitive inspections and torque checks for loose or broken pylon forward mount bolts made from INCO 718 material and establishes a new life limit for these bolts. The AD also requires repetitive inspections of pylon forward mount bolts made from MP159 material.

However, this AD will not affect the current requirements of either of those previously issued ADs.

Cost Impact

The FAA estimates that 9 airplanes of U.S. registry will be affected by this AD. The FAA has been advised that the 9 affected airplanes have been modified in accordance with the requirements of this AD. Therefore, currently, this AD action imposes no additional economic burden on any U.S. operator.

However, should an unmodified airplane be imported and placed on the U.S. Register in the future, it will take approximately 51 work hours per airplane to accomplish the actions, at an average labor rate of $60 per work hour. Required parts will be supplied by the manufacturer to the operators at no cost. Based on these figures, the cost impact of the AD is estimated to be $3,060 per airplane.

Determination of Rule's Effective Date

Since this AD action does not affect any airplane that is currently on the U.S. registry, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-102-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-03-16 Airbus: Amendment 39-13040. Docket 2002-NM-102-AD.

Applicability: Airbus Model A330-223, -321, -322, and -323 series airplanes, certificated in any category, equipped with Pratt & Whitney Model PW4164, PW4168, or PW4168A engines; except those airplanes on which all of the following modifications have been installed:

—Modification 46147 (reference Airbus Service Bulletin A330-54-3016, Revision 01, dated August 7, 2000);

—Modification 46948 (reference Airbus Service Bulletin A330-71-3012, Revision 01, dated August 25, 2000), or Modification 49419 (reference Airbus Service Bulletin A330-71-3015, Revision 01, dated March 19, 2002);

—Modification 46383 (reference Airbus Service Bulletin A330-71-3009, Revision 02, dated August 31, 2001); and

—Modification 47341 (reference Airbus Service Bulletin A330-78-3011, dated December 14, 1999).

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent reduced structural integrity of the primary structure of the engine pylons, and uncommanded deployment of the thrust reversers, which could result in reduced controllability of the airplane, accomplish the following:

Modification of the Engine Pylon Primary Structure

(a) Prior to the accumulation of 500 flight cycles on the engine or 6 months after the effective date of this AD, whichever occurs later, modify the primary structure of the engine pylon by accomplishing all of the actions specified in the Accomplishment Instructions of Airbus Service Bulletin A330-54-3016, Revision 01, dated August 7, 2000, per the service bulletin.

(b) Modifications accomplished before the effective date of this AD, per Airbus Service Bulletin A330-54-3016, dated July 15, 1999, are considered acceptable for compliance with the applicable modification required by this AD.

Replacement of Thrust Reverser Locking Actuators

(c) Within 500 hours on the engine or 6 months after the effective date of this AD, whichever occurs later, replace the thrust reverser locking actuators on engine 1 and engine 2 with new and improved actuators, per Airbus Service Bulletin A330-78-3011, dated December 14, 1999.

Note 2: Airbus Service Bulletin A330-78-3011, dated December 14, 1999, references Pratt & Whitney Service Bulletin PW4G-100-78-71, dated September 24, 1999, as an additional source of service information for accomplishment of the replacement of the thrust reverser locking actuators.

Parts Installation

(d) As of the effective date of this AD, no person may install a locking actuator having part number 1610000-11 or -13, on any airplane.

Alternative Methods of Compliance

(e) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(f) Special flight permits may be issued in accordance with sections 21.197 and 21.199 of the Federal Aviation Regulations (14 CFR 21.197 and 21.199) to operate the airplane to a location where the requirements of this AD can be accomplished.

Incorporation by Reference

(g) Unless otherwise specified in this AD, the actions shall be done in accordance with Airbus Service Bulletin A330-54-3016, Revision 01, dated August 7, 2000; and Airbus Service Bulletin A330-78-3011, dated December 14, 1999; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2000-237-123(B) R1, dated December 12, 2001.

Effective Date

(h) This amendment becomes effective on February 20, 2003.

Issued in Renton, Washington, on January 24, 2003.
Ali Bahrami,
Acting Manager, Transport Airplane Directorate, Aircraft Certification Service.

[FR Doc. 03-2146 Filed 2-4-03; 8:45 am]

BILLING CODE 4910-13-P